DEPARTMENT OF ENERGY

Federal Energy Regulatory Commission

Combined Notice of Filings #1

Take notice that the Commission received the following electric corporate filings:

Docket Numbers: EC21-31-000.

Applicants: Chalk Point Power, LLC, Chalk Point Steam, LLC, Dickerson Power, LLC, Lanyard Power Holdings, LLC, Morgantown Station, LLC, Morgantown Power, LLC.

Description: Application for Authorization Under Section 203 of the Federal Power Act, et al. of Chalk Point Power, LLC, et al.

Filed Date: 12/4/20.

Accession Number: 20201204-5246.

Comments Due: 5 p.m. ET 12/28/20.

Take notice that the Commission received the following exempt wholesale generator filings:

Docket Numbers: EG21-45-000.

Applicants: Dickerson Power, LLC.

Description: Notice of Self-Certification of EWG Status of Dickerson Power, LLC.

Filed Date: 12/4/20.

Accession Number: 20201204-5186.

Comments Due: 5 p.m. ET 12/28/20.

Docket Numbers: EG21-46-000.

Applicants: Morgantown Power, LLC.

Description: Notice of Self-Certification of Exempt Wholesale Generator Status of Morgantown Power, LLC.

Filed Date: 12/4/20.

Accession Number: 20201204-5190.

Comments Due: 5 p.m. ET 12/28/20.

Docket Numbers: EG21-47-000.

Applicants: Morgantown Station, LLC.

Description: Notice of Self-Certification of Exempt Wholesale Generator Status of Morgantown Station, LLC.

Filed Date: 12/4/20.

Accession Number: 20201204-5195.

Comments Due: 5 p.m. ET 12/28/20.

Docket Numbers: EG21-48-000.

Applicants: Water Strider Solar, LLC.

Description: Notice of Self-Certification of Exempt Wholesale Generator Status of Water Strider Solar, LLC.

Filed Date: 12/7/20.

Accession Number: 20201207-5019.

Comments Due: 5 p.m. ET 12/28/20.

Take notice that the Commission received the following electric rate filings:

Docket Numbers: ER19-470-005.

Applicants: ISO New England Inc., New England Power Pool Participants Committee, New England Power Company, Eversource Energy Service Company (as agent).

Description: Compliance filing: ISO-NE & NEPOOL; Rev. in Compliance with the Order No. 841 Order on Compliance to be effective 3/1/2021.

Filed Date: 12/7/20.

Accession Number: 20201207-5088.

Comments Due: 5 p.m. ET 12/28/20.

Docket Numbers: ER19-2259-001.

Applicants: Turquoise Nevada LLC.

Description: Compliance filing: Turquoise Nevada Tariff Update to be effective 12/8/2020.

Filed Date: 12/7/20.

Accession Number: 20201207-5066.

Comments Due: 5 p.m. ET 12/28/20.

Docket Numbers: ER21-397-001.

Applicants: Midcontinent Independent System Operator, Inc., Ameren Transmission Company of Illinois.

Description: Tariff Amendment: 2020-12-07_SA 3580 ATXI-City of Rolla WCA Substitute to be effective 1/13/2021.

Filed Date: 12/7/20.

Accession Number: 20201207-5052.

Comments Due: 5 p.m. ET 12/28/20.

Docket Numbers: ER21-573-001.

Applicants: Chalk Point Power, LLC.

Description: Tariff Amendment: Amendment to Application for Market-Based Rate Authorization to be effective 12/31/9998.

Filed Date: 12/7/20.

Accession Number: 20201207-5063.

Comments Due: 5 p.m. ET 12/28/20.

Docket Numbers: ER21-574-001.

Applicants: Dickerson Power, LLC.

Description: Tariff Amendment: Amendment to Application for Market-Based Rate Authorization to be effective 12/31/9998.

Filed Date: 12/7/20.

Accession Number: 20201207-5065.

Comments Due: 5 p.m. ET 12/28/20.

Docket Numbers: ER21-575-001.

Applicants: Lanyard Power Marketing, LLC.

Description: Tariff Amendment: Amendment to Application for Market-Based Rate Authorization to be effective 12/31/9998.

Filed Date: 12/7/20.

Accession Number: 20201207-5069.

Comments Due: 5 p.m. ET 12/28/20.

Docket Numbers: ER21-577-001.

Applicants: Morgantown Power, LLC.

Description: Tariff Amendment: Amendment to Application for Market-Based Rate Authorization to be effective 12/31/9998.

Filed Date: 12/7/20.

Accession Number: 20201207-5072.

Comments Due: 5 p.m. ET 12/28/20.

Docket Numbers: ER21-578-001.

Applicants: Morgantown Station, LLC.

Description: Tariff Amendment: Amendment to Application for Market-Based Rate Authorization to be effective 12/31/9998.

Filed Date: 12/7/20.

Accession Number: 20201207-5077.

Comments Due: 5 p.m. ET 12/28/20.

Docket Numbers: ER21-587-000.

Applicants: Southern California Edison Company.

Description: § 205(d) Rate Filing: GIA & DSA Isabella Partners SA Nos. 1126-1127 to be effective 12/8/2020.

Filed Date: 12/7/20.

Accession Number: 20201207-5033.

Comments Due: 5 p.m. ET 12/28/20.

Docket Numbers: ER21-588-000.

Applicants: Horizon Power and Light, LLC.

Description: § 205(d) Rate Filing: Horizon Power and Light, LLC Supplemental Update to Market-Based Rate Tariff to be effective 12/13/2020.

Filed Date: 12/7/20.

Accession Number: 20201207-5040.

Comments Due: 5 p.m. ET 12/28/20.

Docket Numbers: ER21-589-000.

Applicants: Crescent Ridge LLC.

Description: Baseline eTariff Filing: Filing of Shared Facilities Agmt and Shared Facilities Easement and Lease Agmt to be effective 12/8/2020.

Filed Date: 12/7/20.

Accession Number: 20201207-5042.

Comments Due: 5 p.m. ET 12/28/20.

Docket Numbers: ER21-590-000.

Applicants: PJM Interconnection, L.L.C.

Description: § 205(d) Rate Filing: Amendment to WMPA SA No. 4775; Queue No AB1-125 to be effective 8/7/2017.

Filed Date: 12/7/20.

Accession Number: 20201207-5048.

Comments Due: 5 p.m. ET 12/28/20.

Docket Numbers: ER21-591-000.

Applicants: Midcontinent Independent System Operator, Inc., Michigan Electric Transmission Company, LLC.

Description: § 205(d) Rate Filing: 2020-12-07_SA 3591 METC-Heartland Farms E&P (J984) to be effective 11/30/2020.

Filed Date: 12/7/20.

Accession Number: 20201207-5054.

Comments Due: 5 p.m. ET 12/28/20.

Docket Numbers: ER21-592-000.

Applicants: PJM Interconnection, L.L.C.

Description: § 205(d) Rate Filing: Second Revised WMPA SA No 4083; Queue No. AF1-258 to be effective 11/5/2020.

Filed Date: 12/7/20.

Accession Number: 20201207-5082.

Comments Due: 5 p.m. ET 12/28/20.

Docket Numbers: ER21-593-000.

Applicants: Lone Tree Wind, LLC.

Description: Baseline eTariff Filing: Certificates of Concurrence for Shared Facilities Agmt and Easement Agmt to be effective 12/8/2020.

Filed Date: 12/7/20.

Accession Number: 20201207-5087.

Comments Due: 5 p.m. ET 12/28/20.

Docket Numbers: ER21-594-000.

Applicants: New York Independent System Operator, Inc.

Description: § 205(d) Rate Filing: Incorporation of Fast Start Resource start-up costs into enhanced FSR pricing to be effective 12/15/2020.

Filed Date: 12/7/20.

Accession Number: 20201207-5091.

Comments Due: 5 p.m. ET 12/28/20.

Docket Numbers: ER21-595-000.

Applicants: New York Independent System Operator, Inc.

Description: § 205(d) Rate Filing: 205 filing: Modify Eligibility of Meter Service Entities to be effective 2/8/2021.

Filed Date: 12/7/20.

Accession Number: 20201207-5095.

Comments Due: 5 p.m. ET 12/28/20.

Docket Numbers: ER21-596-000.

Applicants: System Energy Resources, Inc.

Description: § 205(d) Rate Filing: SERI UPSA Ratebase Credit to be effective 10/16/2020.

Filed Date: 12/7/20.

Accession Number: 20201207-5107.

Comments Due: 5 p.m. ET 12/28/20.

Docket Numbers: ER21-597-000.

Applicants: AEP Texas Inc.

Description: § 205(d) Rate Filing: AEPTX-Blackjack Creek Wind Farm 1st A&R GIA to be effective 11/19/2020.

Filed Date: 12/7/20.

Accession Number: 20201207-5115.

Comments Due: 5 p.m. ET 12/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2020.
Kimberly D. Bose,
Secretary.

[FR Doc. 2020-27260 Filed 12-10-20; 8:45 am]

BILLING CODE 6717-01-P